DEPARTMENT OF HOUSING AND URBAN DEVELOPMENT

[Docket No. FR-5415-N-17]

Notice of Availability: Notice of Funding Availability (NOFA) for Fiscal Year (FY) 2010 Continuum of Care (CoC) Homeless Assistance Program

AGENCY: Office of the Chief of the Human Capital Officer, HUD.

ACTION: Notice.

SUMMARY: HUD announces the availability on its Web site of the applicant information, deadline information, and other requirements for the Continuum of Care (CoC) Homeless Assistance Program NOFA for FY2010. Approximately $1.68 billion is made available through this NOFA, through Consolidated Appropriations Act, 2010 (Pub. L. 111-117, approved December 16, 2009). Carried over or recaptured funds from previous fiscal years, if available, may be added to this amount. Applicants may obtain copies of HUD's FY2010 CoC NOFA and the HUD's Fiscal Year 2010 Notice of Funding Availability (NOFA) Policy Requirements and General Section to HUD's FY2009 NOFAs for Discretionary Programs (General Section) at http://www.hud.gov/offices/adm/grants/fundsavail.cfm. Applicants will be required to complete and submit their applications in e-snaps at http://www.hud.gov/esnaps. This system is not part of Grants.gov. Applicants are strongly encouraged to carefully review application submission requirements contained in the FY2010 CoC NOFA.

The Catalogue of Federal Domestic Assistance (CFDA) numbers for the CoC Homeless Assistance Program are: 14.235, Supportive Housing Program (SHP); 14.238, Shelter Plus Care (S+C) and 14.249, Section 8 Moderate Rehabilitation Single Room Occupancy (SRO).

FOR FURTHER INFORMATION CONTACT: Questions regarding specific program requirements should be directed to the agency contact identified in the program NOFA. Questions regarding the 2010 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: September 20, 2010.
Barbara S. Dorf,
Director, Office of Departmental Grants, Management and Oversight, Office of the Chief of the Human Capital Officer.

[FR Doc. 2010-24041 Filed 9-24-10; 8:45 am]

BILLING CODE 4210-67-P